DEPARTMENT OF ENERGY

Federal Energy Regulatory Commission

Combined Notice of Filings #1

November 6, 2006.

Take notice that the Commission received the following electric corporate filings:

Docket Numbers: EC07-12-000; ER07-117-000.

Applicants: AEP Operating Companies.

Description: AEP Operating Companies submit a request for disclaimer of jurisdictional or, in the alternative, applications for approval under Sections 203 and 205 of the Federal Power Act.

Filed Date: 10/31/2006.

Accession Number: 20061103-0062.

Comment Date: 5 p.m. Eastern Time on Tuesday, November 21, 2006.

Take notice that the Commission received the following exempt wholesale generator filings:

Docket Numbers: EG07-7-000.

Applicants: BTEC New Albany LLC.

Description: BTEC New Albany LLC submits a notice of self-certification of exempt wholesale generator status.

Filed Date: 10/31/2006.

Accession Number: 20061102-0174.

Comment Date: 5 p.m. Eastern Time on Tuesday, November 21, 2006.

Docket Numbers: EG07-8-000.

Applicants: BTEC Southhaven LLC.

Description: BTEC Southaven, LLC submits a notice of self-certification of Exempt Wholesale Generator Status.

Filed Date: 10/31/2006.

Accession Number: 20061102-0175.

Comment Date: 5 p.m. Eastern Time on Tuesday, November 21, 2006.

Take notice that the Commission received the following electric rate filings:

Docket Numbers: ER00-2391-007; ER00-3068-007; ER01-1071-007; ER01-1710-009; ER01-1972-007; ER01-2074-007; ER01-2139-010; ER01-838-007; ER02-1838-007; ER02-1903-006; ER02-2018-007; ER02-2120-005; ER02-2166-006; ER02-2559-006; ER02-669-007; ER03-1103-003; ER03-1104-003; ER03-1105-003; ER03-1332-003; ER03-1333-004; ER03-1375-003; ER03-155-006; ER03-179-007; ER03-34-006; ER03-623-007; ER04-127-005; ER04-187-004; ER04-290-002; ER04-947-005; ER05-1281-003; ER05-222-003; ER05-236-005; ER05-487-003; ER06-9-002; ER97-3359-010; ER98-2076-010; ER98-2494-011; ER98-3511-011; ER98-3563-011; ER98-3564-011; ER98-3566-014; ER98-4222-006; ER99-2917-008;

Applicants: Doswell Limited Partnership; FPL Energy Cape, LLC; Badger Windpower LLC; Mill Run Windpower, LLC; Gray County Wind Energy, LLC; Calhoun Power Company LLC; Somerset Windpower, LLC; FPL Energy Vansycle LLC; FPL Energy Seabrook, LLC; FPL Energy Marcus Hook, L.P.; Blythe Energy, LLC; FPLE Rhode Island State Energy, LP; Pennsylvania Windfarms, Inc.; Backbone Mountain Windpower LLC; Bayswater Peaking Facility, LLC; FPL Energy South Dakota Wind, LLC; FPL Energy North Dakota Wind, LLC; FPL Energy North Dakota Wind, LLC; FPL Energy Oklahoma Wind, LLC; FPL Energy Sooner Wind, LLC; Waymart Wind Farm L.P.; High Winds, LLC; FPL Energy New Mexico Wind, LLC; FPL Energy Hancock County Wind, LLC; Jamaica Bay Peaking Facility, LLC; FPL Energy Green Power Wind, LLC; North Jersey Energy Associates, a L.P.; Meyersdale Windpower, LLC; POSDEF Power Company, LP; FPL Energy Duane Arnold, LLC; Diablo Winds, LLC; Northeast Energy Associates, LP; FPL Energy Cowboy Wind, LLC; FPL Energy Burleigh County Wind, LLC; Florida Power & Light Company; HAWKEYE POWER PARTNERS LLC; ESI VANSYCLE PARTNERS LP; FPL Energy Maine Hydro, LLC; FPL Energy Wyman LLC; FPL Energy Wyman IV LLC; FPL Energy Power Marketing, Inc.; LAKE BENTON POWER PARTNERS II LLC; FPL Energy MH50, L.P.;

Description: Notice of Termination of Affiliate Status of FPL Group, Inc. under ER97-3359, et al.

Filed Date: 10/27/2006.

Accession Number: 20061027-5017.

Comment Date: 5 p.m. Eastern Time on Friday, November 17, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-19122 Filed 11-13-06; 8:45 am]

BILLING CODE 6717-01-P